DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by April 25, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

Applicant: David Elua, Great Neck, NY, PRT-098484.

The applicant requests a permit to import the sport-hunted trophy of one male bontebok (Damaliscus pygargus pygargus) culled from a captive herd maintained under the management program of the Republic of South Africa, for the purpose of enhancement of the survival of the species

Applicant: Anthony Battaglia, Moscow, ID, PRT-099297.

The applicant requests a permit to import the sport-hunted trophy of one male bontebok (Damaliscus pygargus pygargus) culled from a captive herd maintained under the management program of the Republic of South Africa, for the purpose of enhancement of the survival of the species.

Applicant: Zoo Atlanta, Atlanta, GA, PRT-008519.

The applicant requests reissuance of their permit for scientific research with two captive-born giant pandas (Ailuropoda melanoleuca) currently held under loan agreement with the Government of China and under provisions of the USFWS Giant Panda Policy. The proposed research will cover all aspects of behavior, reproductive physiology, genetics, nutrition, and animal health and is a continuation of activities currently in progress. This notification covers activities conducted by the applicant over a period of five years.

Applicant: David W. Hanna, Irvine, CA, PRT-100443.

The applicant requests a permit to import the sport-hunted trophy of one male bontebok (Damaliscus pygargus pygargus) culled from a captive herd maintained under the management program of the Republic of South Africa, for the purpose of enhancement of the survival of the species.

Applicant: Thomas Productions, Las Vegas, NV, PRT-066158, 066159, 097784, 097785, 097786, 097787.

The applicant requests permits to captive-born tigers (Panthera tigris) to worldwide locations for the purpose of enhancement of the species through conservation education. The animals and permit numbers are: Sampson, PRT # 066158; Starr, 066159; Maximillian, 097784; Morpheus, 097785; Rocky, 097786; and Mercury, 097787. This notification covers activities to be conducted by the applicant over a three-year period and the import of any potential progeny born to these animals while overseas.

Dated: March 11, 2005.
Monica Farris,
Senior Permit Biologist, Branch of Permits, Division of Management Authority.

[FR Doc. 05-5777 Filed 3-23-05; 8:45 am]

BILLING CODE 4310-55-P